ENVIRONMENTAL PROTECTION AGENCY

[FRL-7475-3]

EPA National Advisory Council for Environmental Policy and Technology; Notification of Public Advisory Committee Teleconference Meeting

AGENCY: Environmental Protection Agency (EPA) .

ACTION: Notice; notification of Public Advisory Committee teleconference meeting.

SUMMARY: Pursuant to the Federal Advisory Committee Act, Public Law 92-463, notice is hereby given that the National Advisory Council for Environmental Policy and Technology (NACEPT) will meet in a public teleconference on Thursday, April 17, 2003, from 10 a.m. to 12 p.m. Eastern Time. The meeting will be hosted out of the main conference room, U.S. EPA, 655 15th Street, NW., Suite 800, Washington, DC 20005. The meeting is open to the public, however, due to limited space, seating will be on a registration-only basis. For further information regarding the teleconference meeting, or how to register and obtain the phone number, please contact the individuals listed below.

Background

NACEPT is a federal advisory committee under the Federal Advisory Committee Act, Public Law 92463. NACEPT provides advice and recommendations to the Administrator and other EPA officials on a broad range of domestic and international environmental policy issues. NACEPT consists of a representative cross-section of EPA's partners and principle constituents who provide advice and recommendations on policy issues and serves as a sounding board for new strategies that the Agency is developing.

Purpose of Meeting

The NACEPT Council will review and discuss the EPA's draft FY 2003-2008 Strategic Plan. The draft Strategic Plan is built around five goals, centered on the themes of air, water, land, communities and ecosystems, and compliance and environmental stewardship. EPA is currently soliciting public comments on the draft strategic plan. This meeting will provide the full NACEPT Council the opportunity to make recommendations on EPA's draft strategic plan.

Availability of Review Materials

EPA's Draft FY 2003-2008 Draft Strategic Plan is available electronically from EPA's Office of Chief Financial Officer, at http://epa.gov/ocfo/plan/plan.htm.

FOR FURTHER INFORMATION CONTACT: Members of the public wishing to gain access to the conference room on the day of the meeting must contact Ms. Gwen Whitt, Designated Federal Officer for NACEPT, U.S. Environmental Protection Agency (1601E), Office of Cooperative Environmental Management, 655 15th Street, NW., Suite 800, Washington, DC 20005; telephone/voice mail at (202) 233-0090 or via email at whitt.gwen@epa.gov. You may also contact Sonia Altieri at (202) 233-0090 if you have any questions. The agenda will be available to the public upon request. General comments from the public on the draft strategic plan should be sent to http://epa.gov/ocfo/plan/plan.htm. Specific comments for NACEPT's consideration should be submitted no later than Monday April 21, 2003.

General Information

Additional information concerning the National Advisory Council for Environmental Policy and Technology (NACEPT) can be found on our website (http://www.epa.gov/ocem).

Meeting Access

Individuals requiring special accommodation at this meeting, including wheelchair access to the conference room, should contact Ms. Whitt at least five business days prior to the meeting so that appropriate arrangements can be made.

Dated: March 24, 2003.
Gwen Whitt,
Designated Federal Officer.

[FR Doc. 03-7798 Filed 3-31-03; 8:45 am]

BILLING CODE 6560-50-P